DEPARTMENT OF JUSTICE

Notice of Lodging of Consent Decree Pursuant To The Comprehensive Environmental Response, Compensation, and Liability Act

In accordance with Departmental policy, 28 CFR 50.7, notice is hereby given that a proposed consent decree in United States v. Monarch Greenback, LLC., et al., Civil Action No. CV 02-436-S-EJL was lodged on September 1, 2004, with the United States District Court for the District of Idaho. The consent decree requires the defendant Doe Run Resources Corporation to pay $810,000 to the United States in reimbursement of costs incurred by the United States at the Talache Mine Tailings Superfund Site near Atlanta, Idaho.

The Department of Justice will receive, for a period of thirty (30) days from the date of this publication, comments relating to the proposed consent decree. Comments should be addressed to the Assistant Attorney General for the Environment and Natural Resources Division, Department of Justice, P.O. Box 7611 Washington, DC. 20044-7611, and should refer to United States v. Monarch Greenback, LLC, et. al., DOJ Ref. #90-5-1-1-4541/1.

The proposed consent decree may be examined at the office of U.S. EPA Region 10, 1200 Sixth Avenue, Seattle, WA 98101. During the public comment period, the proposed consent decree may also be examined on the following Department of Justice Web site, http://www.usdoj.gov/enrd/open.html. Copies of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies please refer to the referenced case and enclose a check in the amount of $13.75 (25 cents per page reproduction costs), payable to the U.S. Treasury.

Robert Maher,
Assistant Chief, Environmental Enforcement Section, Environmental and Natural Resources Division.

[FR Doc. 04-20471 Filed 9-8-04; 8:45 am]

BILLING CODE 4410-15-M